DEPARTMENT OF ENERGY

Federal Energy Regulatory Commission

[Docket No. EL10-80-000]

Ameren Services Company; Notice of Petition for Declaratory Order

August 5, 2010.

Take notice that on August 2, 2010, pursuant to section 207 of the Rules of Practice and Procedure of the Federal Energy Regulation Commission (Commission), 18 CFR 385.207, section 219 of the Federal Power Act, 16 U.S.C. 824s, and Order No. 679, Promoting Transmission Investment Through Pricing Reform, Order No. 679, 2006-2007 FERC Stats. & Regs., Regs. Preambles ¶ 31,222, order on reh'g, Order No. 679-A, 2006-2007 FERC Stats. & Regs., Regs. Preambles ¶ 31,236 (2006), order on reh'g, Order No. 679-B, 119 FERC ¶ 61,062 (2007), Ameren Services Company filed a Petition for Declaratory Order for Incentive Rate Treatments, requesting the Commission to approve certain incentive rate treatments for its affiliates, including Ameren Transmission Company, in connection with the first phase of the multi-year transmission development initiative, which consist of four major new transmission projects, totaling approximately $1.3 billion in cost.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 31, 2010.

Nathaniel J. Davis, Sr.,
Deputy Secretary.

[FR Doc. 2010-19848 Filed 8-11-10; 8:45 am]

BILLING CODE 6717-01-P